ENVIRONMENTAL PROTECTION AGENCY

40 CFR Part 52

[IN152-1b; FRL-7481-2]

Approval and Promulgation of Implementation Plans; Indiana

AGENCY: Environmental Protection Agency (EPA).

ACTION: Proposed rule.

SUMMARY: The EPA is proposing to approve revisions to volatile organic compound (VOC) regulations in 326 Indiana Administrative Code (IAC) 8-1-2. Indiana submitted a request for this State Implementation Plan (SIP) revision on October 21, 2002 and January 10, 2003. These regulations affect miscellaneous metal coating operations performing dip or flow coating. One revision is that dip and flow coating operators may now use a rolling 30-day average to meet VOC content limits. This replaces a daily compliance requirement. EPA has determined that the extended averaging period is more practical for these sources because of the difficulties associated with intermittently adding solvent and the higher transfer efficiency associated with dip and flow coating operations. Solvent is intermittently added to the coating tank to maintain proper viscosity. Dip and flow coating generally has a higher transfer efficiency, which results in lower emissions, than spray coating. Indiana also added new equivalent emission limits for dip and flow coating, and made some additional, minor revisions. The requested revisions will aid dip and flow coating sources. Dip and flow coating uses less coating compared to spray coating, lowering total emissions. By providing alternative compliance options, dip and flow coating sources do not have to switch to spray coating to be able to demonstrate compliance.

DATES: The EPA must receive written comments by June 4, 2003.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

SUPPLEMENTARY INFORMATION: Throughout this document wherever “we,” “us,” or “our” are used we mean the EPA.

Table of Contents

I. What actions are the EPA taking today?

II. Where can I find more information about this proposal and the corresponding direct final rule?

I. What Actions Are the EPA Taking Today?

The EPA is proposing to approve revisions to 326 IAC 8-1-2. The revised rule includes a new compliance method for dip coating and flow coating operations. Prior to these revisions, dip and flow coating facilities were required to use daily averaging to meet VOC content limits. The revised rules allow for calculating the VOC content on a 30-day rolling average basis for dip or flow coating only. The extended averaging period is more practical for these sources because of the difficulties associated with intermittently adding solvent and the higher transfer efficiency associated with dip and flow coating operations. Solvent is intermittently added to the coating tank to maintain proper viscosity. Dip and flow coating generally has a higher transfer efficiency than spray coating, which results in lower VOC emissions.

Indiana also added new equivalent emission limits at 326 IAC 8-1-2(a)(9)(A) for dip and flow coating operations. Equivalent emission limits are expressed in terms of mass VOC per volume of coating solids.

Indiana also made several minor revisions to 326 IAC 8-1-2. Most of these revisions are simple rewording or adding a word or phrase for clarity to portions of the rule.

II. Where Can I Find More Information About This Proposal and the Corresponding Direct Final Rule?

For additional information see the direct final rule published in the rules section of this Federal Register.

Dated: April 2, 2003.
Bharat Mathur,
Acting Regional Administrator, Region 5.

[FR Doc. 03-10998 Filed 5-5-03; 8:45 am]

BILLING CODE 6560-50-P